DEPARTMENT OF COMMERCE

National Oceanic and Atmospheric Administration

Notice Requesting Nominations for the Advisory Committee on Commercial Remote Sensing (ACCRES)

AGENCY: National Oceanic and Atmospheric Administration, Commerce.

ACTION: Request for membership nominations.

SUMMARY: The Department of Commerce is seeking 3 to 5 representatives of key stakeholders in the commercial space-based remote sensing industry and among users of space-based remote sensing data to serve on the Advisory Committee on Commercial Remote Sensing (ACCRES). The Committee is comprised of representatives of leaders in the commercial space-based remote sensing industry, space-based remote sensing data users, government, and academia. The SUPPLEMENTARY INFORMATION section of this notice provides committee and membership criteria.

FOR FURTHER INFORMATION CONTACT: Tashaun Pierre, Commercial Remote Sensing Regulatory Affairs Office, NOAA Satellite and Information Services, telephone (301) 713-7047, email Tashaun.pierre@noaa.gov.

SUPPLEMENTARY INFORMATION: ACCRES was established by the Secretary of Commerce on May 21, 2002, to advise the Secretary, through the Under Secretary of Commerce for Oceans and Atmosphere, on matters relating to the U.S. commercial remote sensing industry and NOAA's activities to carry out responsibilities of the Department of Commerce as set forth in the National and Commercial Space Programs Act of 2010 (the Act), Title 51 U.S.C. 60101 et seq.

Committee members serve in a representative capacity for a term of two years and may serve additional terms, if reappointed. No more than 20 individuals at a time may serve on the Committee. ACCRES will have a fairly balanced membership consisting of approximately 9 to 20 members. Nominations are encouraged from all interested U.S. persons and organizations representing interests affected by the regulation of remote sensing. Nominees must represent stakeholders in remote sensing, space commerce, space policy, or a related field and be able to attend committee meetings that are held usually two times per year. Membership is voluntary, and service is without pay. Each nomination that is submitted should include the proposed committee member's name and organizational affiliation, a brief description of the nominee's qualifications and interest in serving on the Committee, a curriculum vitae or resume of the nominee, and no more than three supporting letters describing the nominee's qualifications and interest in serving on the Committee. Self-nominations are acceptable. The following contact information should accompany each submission: The nominee's name, address, phone number, and email address.

Nominations should be sent to Tahara Dawkins, Director, Commercial Remote Sensing Regulatory Affairs Office, email tahara.dawkins@noaa.gov. Nominations must be emailed no later than 30 days from the publication date of this notice. Please include affiliation, home address and business address for each nominee. The full text of the Committee Charter and its current membership can be viewed at the Agency's web page at: http://www.nesdis.noaa.gov/CRSRA/accresHome.html.

Stephen M. Volz,
Assistant Administrator for Satellite and Information Services.

[FR Doc. 2021-17400 Filed 8-16-21; 8:45 am]

BILLING CODE 3510-HR-P